DEPARTMENT OF ENERGY

Federal Energy Regulatory Commission

[Docket No. CP02-17-000]

Texas Eastern Transmission, LP; Notice of Intent To Prepare an Environmental Assessment for the Proposed Freehold Project and Request for Comments on Environmental Issues

December 3, 2001.

The staff of the Federal Energy Regulatory Commission (FERC or Commission) will prepare an environmental assessment (EA) that will discuss the environmental impacts of the Freehold Project involving the construction and operation of facilities by Texas Eastern Transmission, LP (Texas Eastern) in Somerset and Hunterdon Counties, New Jersey.¹ These facilities would consist of one 5,000 horsepower (hp) compressor station and facilities related to the uprate of certain segments of its mainline facilities east of Lambertville, New Jersey. This EA will be used by the Commission in its decisionmaking process to determine whether the project is in the public convenience and necessity.

¹ Texas Easterns's application was filed with the Commission on October 26, 2001, under Section 7 of the Natural Gas Act and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Texas Eastern provided to landowners. This fact sheet addresses a number of typically asked questions, including the use of eminent domain and how to participate in the Commission's proceedings. It is available for viewing on the FERC Internet Web site (www.ferc.fed.us).

Summary of the Proposed Project

Texas Eastern proposes to provide service to New Jersey Natural Gas Company's local distribution system at Texas Eastern's Freehold Lateral M&R Stations 953 and 2210. Texas Eastern proposes to:

• Construct and operate a 5,000-horsepower electric motor-driven compressor station in Somerset County, New Jersey (Freehold Compressor Station);

• Uprate the maximum allowable operating pressure of the 36-inch-diameter Line No. 20 and the 42-inch-diameter Line No. 38 from 975 pounds per square inch gauge (psig) to 1,170 psig from milepost (MP) 0.0 to MP 13.9;

• Install two pressure limiting devices at MP 13.9 of Line Nos. 20 and 38, respectively; and

• Replace five road crossings on Line No. 38 with heavier wall thickness pipeline at the following locations in Somerset and Hunterdon Counties, New Jersey:

• County Road 605/Queens Road (MP 0.06);

• State Route 31 (MP 2.69);

• County Road 607/Rileyville Road (MP 6.12);

• Montgomery Road (MP 9.37); and

• Long Hill Road (MP 10.44).

The general location of Texas Eastern's proposed facilities is shown on the map attached as appendix 1.²

² The appendices referenced in this notice are not being printed in the Federal Register. Copies are available on the Commission's website at the “RIMS” link or from the Commission's Public Reference and Files Maintenance Branch, 888 First Street, NE., Room 2A, Washington, DC 20426, or call (202) 208-1371. For instructions on connecting to RIMS refer to the last page of this notice. Copies of the appendices were sent to all those receiving this notice in the mail.

Land Requirements for Construction

The proposed Freehold Compressor Station would be constructed on a 5-acre site which Texas Eastern would own. Texas Eastern indicated it would need an additional 25 acres which it would acquire through easements, for use as a noise buffer. Construction of the proposed pressure limiting devices and the five road crossings would require a total of about 6.9 acres of land, of which about 5.9 acres consist of existing and maintained right-of-way. The remaining 1.0 acres of land would be restored and allowed to revert to its former use.

The EA Process

The National Environmental Policy Act (NEPA) requires the Commission to take into account the environmental impacts that could result from an action whenever it considers the issuance of a Certificate of Public Convenience and Necessity. NEPA also requires us to discover and address concerns the public may have about proposals. We ³ call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

³ ”We,” “us,” and “our” refer to the environmental staff of the Office of Energy Projects.

The EA will discuss impacts that could occur as a result of the construction and operation of the proposed project under these general headings:

• Geology and soils

• Water resources, fisheries, and wetlands

• Vegetation and wildlife

• Endangered and and threatened species

• Land use

• Cultural resources

• Air quality and noise

• Public safety

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section beginning on page 5.

Currently Identified Environmental Issues

We have already identified several issues that we think deserve attention based on a preliminary review of the proposed facilities and the environmental information provided by Texas Eastern. This preliminary list of issues may be changed based on your comments and our analysis.

• Potential impact on 3 Federally-listed threatened reptile (1) and plant (2) species.

• Conversion to industrial use of about 30 acres of land that is registered with the New Jersey Green Acres program.

• Proximity of the proposed facilities to homes and residential land-use impacts.

• Impact and routing of a 25 kilovolt electric service line, about 1.5 miles long, to be installed by Public Service Electric & Gas Company.

• The Franklin Township Board of Education is in the process of acquiring land for construction of a new high school within 0.25 mile of the proposed Freehold Compressor Station site.

• Noise impacts due to operation of the proposed Freehold Compressor Station.

• Impact of operation of the proposed Freehold Compressor Station on Franklin Township Board of Education's plan to construct a new high school.

Public Participation

You can make a difference by providing us with your specific comments or concerns about the project. By becoming a commentor, your concerns will be addressed in the EA and considered by the Commission. You should focus on the potential environmental effects of the proposal, alternatives to the proposal (including alternative locations), and measures to avoid or lessen environmental impact. The more specific your comments, the more useful they will be. Please carefully follow these instructions to ensure that your comments are received in time and properly recorded:

• Send an original and two copies of your letter to: Secretary, Federal Energy Regulatory Commission, 888 First St., NE., Room 1A, Washington, DC 20426.

• Label one copy of the comments for the attention of Gas/Hydro, PJ-11.3.

• Reference Docket No. CP02-17-000; and

• Mail your comments so that they will be received in Washington, DC on or before January 15, 2002.

Comments, protests, and interventions may be filed electronically via the Internet in lieu of paper. See 18 CFR 385.2001(a)(1)(iii) and the instructions on the Commission's web site under the “e-Filing” link.

If you do not want to send comments at this time but still want to remain on our mailing list, please return the Information Request (appendix 3). If you do not return the Information Request, you will be removed from the environmental mailing list.

Due to current events, we cannot guarantee that we will receive mail on a timely basis from the U.S. Postal Service, and we do not know how long this situation will continue. However, we continue to receive filings from private mail delivery services, including messenger services in a reliable manner. The Commission encourages electronic filing of any comments or interventions or protests to this proceeding. We will include all comments that we receive within a reasonable time frame in our environmental analysis of this project.

Becoming an Intervenor

In addition to involvement in the EA scoping process, you may want to become an official party to the proceeding known as an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Copies of this filing are on file with the Commission and are available for public inspection. This filing may also be viewed on the Web at http://www.ferc.gov using the “RIMS” link, select “Docket #” and follow the instructions (call 202-208-2222 for assistance).

Similarly, the “CIPS” link on the FERC Internet website provides access to the texts of formal documents issued by the Commission, such as orders, notices, and rulemakings. From the FERC Internet website, click on the “CIPS” link, select “Docket#” from the CIPS menu, and follow the instructions. For assistance with access to CIPS, the CIPS helpline can be reached at (202) 208-2474.

Linwood A. Watson, Jr.,
Acting Secretary.

[FR Doc. 01-30350 Filed 11-29-01; 8:45 am]

BILLING CODE 6717-01-P